NATIONAL ARCHIVES AND RECORDS ADMINISTRATION

Information Security Oversight Office

[NARA-2019-009]

State, Local, Tribal, and Private Sector Policy Advisory Committee (SLTPS-PAC)

AGENCY: National Archives and Records Administration (NARA).

ACTION: Notice of Advisory Committee Meeting.

SUMMARY: We are announcing a Federal advisory committee meeting of the State, Local, Tribal, and Private Sector Policy Advisory Committee.

DATES: The meeting will be on January 30, 2019, from 10:00 a.m. to 12:00 p.m.

ADDRESSES: National Archives and Records Administration; 700 Pennsylvania Avenue NW; Jefferson Room; Washington, DC 20408.

FOR FURTHER INFORMATION CONTACT: Robert J. Skwirot, Senior Program Analyst, by mail at Information Security Oversight Office (ISOO); National Archives Building; 700 Pennsylvania Avenue NW, Washington, DC 20408, by telephone at 202.357.5398, or by email at robert.skwirot@nara.gov. Contact ISOO at ISOO@nara.gov.

SUPPLEMENTARY INFORMATION: We announce advisory committee meetings in accordance with the Federal Advisory Committee Act (5 U.S.C. app 2) and its implementing regulation (41 CFR 101-6).

The purpose of this meeting is to discuss matters relating to the Classified National Security Information Program for State, Local, Tribal, and Private Sector Entities.

The meeting is open to the public. However, due to space limitations and access procedures, you must submit the name and telephone number of individuals planning to attend to the Information Security Oversight Office (ISOO) no later than Wednesday, January 23, 2019. ISOO will provide additional instructions for accessing the meeting's location.

Miranda Andreacchio,
Committee Management Officer.

[FR Doc. 2018-27964 Filed 12-26-18; 8:45 am]

BILLING CODE 7515-01-P